DEPARTMENT OF LABOR

Agency Information Collection Activities; Submission for OMB Review; Comment Request; Workforce Innovation and Opportunity Act (WIOA) Implementation Study

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed.

Currently, DOL is soliciting comments concerning the collection of survey data for a study of the implementation of the Workforce Innovation and Opportunity Act (WIOA). A copy of the proposed Information Collection Request (ICR) can be obtained by contacting the office listed below in the addressee section of this notice.

DATES: Written comments must be submitted to the office listed in the addressee section below on or before April 24, 2018.

ADDRESSES: You may submit comments by either one of the following methods:

Email: ChiefEvaluationOffice@dol.gov; Mail or Courier: Janet Javar, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Janet Javar by email at ChiefEvaluationOffice@dol.gov.

SUPPLEMENTARY INFORMATION:

I. Background

WIOA, signed into law on July 22, 2014, authorized and amended a series of employment and educational programs under five titles. DOL seeks to understand how the implementation of WIOA is changing the core workforce programs authorized under Title I (Adult, Dislocated Worker, and Youth programs) and the Employment Service program authorized under the Wagner-Peyser Act and amended by Title III, as well as how the implementation is contributing to more integration with stakeholders in programs authorized under Titles II (Adult Education and Literacy) and IV (Vocational Rehabilitation).

DOL is funding a study to document and describe how critical state-level activities under WIOA are being implemented and identify possible areas for which further technical assistance, guidance, or policies might be needed in order to help implement the law. The study's major research questions are: (1) How are the critical reforms under WIOA related to the core workforce programs for Title I and III being implemented? (2) to what extent is WIOA's vision for an integrated workforce system being achieved through state- and local-level synergies between Titles I and III and Titles II and IV stakeholders? and (3) what changes or supplemental technical assistance, guidance, or policy would be helpful to states administering the core programs and in providing guidance and oversight to the local level to improve service quality and management?

This Federal Register Notice provides the opportunity to comment on the proposed data collection instrument for a national survey on Titles I and III workforce programs to support the implementation study. The online, self-administered survey will be conducted in all 50 states plus the District of Columbia. The state program staff who will be included in the survey sample are staff responsible for implementation of Titles I and III. Each state will complete one survey, although multiple state staff may contribute to a state's response. An earlier information collection request (82 Federal Register 56845) was posted on November 30, 2017 to solicit comments on semi-structured interviews for site visit data collection to support the implementation study.

II. Desired Focus of Comments

Currently, DOL is soliciting comments concerning the above data collection for the WIOA implementation study. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology- for example, permitting electronic submission of responses.

III. Current Actions

At this time, DOL is requesting clearance for a national survey of state workforce administrators.

Type of Review: New information collection request.

OMB Control Number: 1290—0NEW

Affected Public: State program staff involved in WIOA implementation.

Estimated Burden Hours
Type of instrument | Total number respondents | Annual number of respondents | Number of responses per respondent | Average burden time per response (hours) | Annual estimated burden (hours)
Survey of Title I and Title III workforce programs | 51 | 17 | 1 | 3.0 | 51.0
Total | 51 | 17 |  |  | 51.0

Comments submitted in response to this request will be summarized and/or included in the request for Office of Management and Budget approval of the information collection request; they will also become a matter of public record.

Dated: February 16, 2018.
Molly Irwin,
Chief Evaluation Officer, U.S. Department of Labor.

[FR Doc. 2018-03761 Filed 2-22-18; 8:45 am]

BILLING CODE 4510-HX-P